DEPARTMENT OF STATE

[Public Notice: 4948]

30-Day Notice of Proposed Information Collection: DS-60, Affidavit Regarding a Change of Name, OMB Control Number 1405-0133

ACTION: Notice of request for public comment and submission to OMB of proposed collection of information.

SUMMARY: The Department of State has submitted the following information collection request to the Office of Management and Budget (OMB) for approval in accordance with the Paperwork Reduction Act of 1995.

• Title of Information Collection: Affidavit Regarding A Change of Name.

• OMB Control Number: 1405-0133.

• Type of Request: Revision of a Currently Approved Collection.

• Originating Office: Bureau of Consular Affairs, CA/PPT/FO/FC.

• Form Number: DS-60.

• Respondents: U.S. citizens.

• Estimated Number of Respondents: 106,800 per year.

• Estimated Number of Responses: 106,800 per year.

• Average Hours Per Response: .25 (15 minutes).

• Total Estimated Burden: 26,700 hours per year.

• Frequency: On Occasion.

• Obligation to Respond: Required to Obtain or Retain a Benefit.

DATES: Submit comments to the Office of Management and Budget (OMB) for up to 30 days from January 5, 2005.

ADDRESSES: Direct comments and questions to Alex Hunt, the Department of State Desk Officer in the Office of Information and Regulatory Affairs at the Office of Management and Budget (OMB), who may be reached on 202-395-7860. You may submit comments by any of the following methods:

• E-mail: Alexander_T._Hunt@omb.eop.gov. You must include the DS form number (if applicable), information collection title, and OMB control number in the subject line of your message.

• Hand Delivery or Courier: OIRA, Department of State Desk Officer, Office of Management and Budget, 725 17th Street, NW., Washington, DC 20503

• Fax: 202-395-6974

FOR FURTHER INFORMATION CONTACT: You may obtain copies of the proposed information collection and supporting documents from Margaret A. Dickson, U.S. Department of State, CA/PPT/FO/FC, 2100 Pennsylvania Avenue, NW., 3rd Floor, Washington, DC 20037, who may be reached on 202-663-2460 or at dicksonma@state.gov.

SUPPLEMENTARY INFORMATION: We are soliciting public comments to permit the Department to:

• Evaluate whether the proposed information collection is necessary to properly perform our functions.

• Evaluate the accuracy of our estimate of the burden of the proposed collection, including the quality, utility, and clarity of the information to be collected.

• Minimize the reporting burden on those who are to respond, including the use of automated collection techniques or other forms of technology.

Abstract of proposed collection: The Affidavit Regarding a Change of Name is submitted in conjunction with an application for a U.S. passport. It is used by Passport Services to collect information for the purpose of establishing that a passport applicant who has adopted a new name without formal court proceedings or by marriage has publicly and exclusively used the adopted name over a period of time (at least five years).

Methodology: When needed, The Affidavit Regarding a Change of Name is completed at the time a U.S. citizen applies for a U.S. passport.

Dated: November 19, 2004.
Frank Moss,
Deputy Assistant Secretary for Passport, Services, Bureau of Consular Affairs, Department of State.

[FR Doc. 05-192 Filed 1-4-05; 8:45 am]

BILLING CODE 4710-06-P